DEPARTMENT OF DEFENSE

Office of the Secretary

[Docket ID: DOD-2018-OS-0032]

Proposed Collection; Comment Request

AGENCY: Defense Security Services, DoD.

ACTION: Information collection notice.

SUMMARY: In compliance with the Paperwork Reduction Act of 1995, the Defense Security Services (DSS) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 3, 2018.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24 Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the DSS Industrial Security Office, Planning & Execution: Jamaar Deboise, Quantico, VA 22134, or call DSS Industrial Security Office at 571-305-6648.

SUPPLEMENTARY INFORMATION:

Title; Associated Form; and OMB Number: Voice of Industry Survey; OMB Control Number 0704-0472.

Needs and Uses: The information collection requirement is necessary to provide feedback on DSS performance with respect to the administration and implementation of the National Industrial Security Program (NISP).

Affected Public: Individual or households.

Annual Burden Hours: 6,469 hours.

Number of Respondents: 12,938.

Responses per Respondent: 1.

Annual Responses: 12,938.

Average Burden per Response: 30 minutes.

Frequency: Annually.

Respondents are government contracting activity (GCA) personnel who have a partnership with the DSS regarding the cleared contractors associated with their activities' program(s). The completed surveys will be analyzed by DSS in order to obtain information on DSS relationships with GCAs, and actions will be determined based on feedback from respondents to continue to improve the utility and efficacy of DSS programs and products for government partners.

Dated: May 30, 2018.
Shelly E. Finke,
Alternate OSD Federal Register Liaison Officer, Department of Defense.

[FR Doc. 2018-11885 Filed 6-1-18; 8:45 am]

BILLING CODE 5001-06-P